DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 6, 2006.

Interested persons are invited to submit written comments regarding the subject matter of the investigations to the Director, Division of Trade Adjustment Assistance, at the address shown below, not later than March 6, 2006.

The petitions filed in this case are available for inspection at the Office of the Director, Division of Trade Adjustment Assistance, Employment and Training Administration, U.S. Department of Labor, Room C-5311, 200 Constitution Avenue, NW., Washington, DC 20210.

Signed at Washington, DC, this 13th day of February 2006.
Erica R. Cantor,
Director, Division of Trade Adjustment Assistance.

Appendix
[TAA petitions instituted between 1/30/06 and 2/3/06]
TA-W | Subject firm (petitioners) | Location | Date of institution | Date of petition
58735 | Frank Morrow Co. (Comp) | Providence, RI | 01/30/06 | 01/27/06
58736 | Honeywell Chemicals (Comp) | Claymont, DE | 01/30/06 | 01/24/06
58737 | Plymouth Rubber Co. (Comp) | Canton, MA | 01/30/06 | 01/27/06
58738 | John Hancock (State) | Boston, MA | 01/30/06 | 01/27/06
58739 | American Sunroof Co. (State) | Lansing, MI | 01/30/06 | 01/26/06
58740 | Jasc Software/Corel Software (State) | Eden Prairie, MN | 01/30/06 | 01/27/06
58741 | Singer Hosiery Mills, Inc. (Comp) | Thomasville, NC | 01/30/06 | 01/25/06
58742 | Johnson Controls, Inc. (Comp) | Jefferson City, MO | 01/30/06 | 01/27/06
58743 | Getronics (Wkrs) | Tampa, FL | 01/30/06 | 01/25/06
58744 | Omco Cast Metals, Inc. (GMP) | Winchester, IN | 01/30/06 | 01/26/06
58745 | Duffy Tool and Stamping (Union) | Muncie, IN | 01/30/06 | 01/27/06
58746 | U.S. Repeating Arms Co. (Union) | New Haven, CT | 01/30/06 | 01/30/06
58747 | Cone Denim LLC (Comp) | Greensboro, NC | 01/31/06 | 01/27/06
58748 | Gala Printing Co. (Comp) | Spartanburg, SC | 01/31/06 | 01/25/06
58749 | Jackson Products, Inc. (Comp) | Tonawanda, NY | 01/31/06 | 01/23/06
58750 | Robert Bosch Tool Corp. (State) | Heber Springs, AR | 01/31/06 | 01/30/06
58751 | Gerber Plumbing Fixtures (Union) | Kokomo, IN | 01/31/06 | 01/30/06
58752 | Claireson Manufacturing Co. (State) | Forrest City, AR | 01/31/06 | 01/30/06
58753 | Koch Industries—Invista (Wkrs) | Waynesboro, VA | 01/31/06 | 01/27/06
58754 | Allegheny Color Corporation (Comp) | Ridgway, PA | 01/31/06 | 01/30/06
58755 | Freightline of Portland, LLC (Union) | Portland, OR | 01/31/06 | 01/30/06
58756 | Wagner Knitting, Inc. (Comp) | Lowell, NC | 01/31/06 | 01/30/06
58757A | Swarovski North America Limited (Comp) | Cranston, RI | 01/31/06 | 01/30/06
58757 | Swarovski North America Limited (Comp) | Cranston, RI | 01/31/06 | 01/30/06
58758 | Sony Direct View Set Assembly (Wkrs) | Mt. Pleasant, PA | 01/31/06 | 01/31/06
58759 | Buckingham Galleries (State) | New Hartford, CT | 01/31/06 | 01/30/06
58760 | Olympic Laser Processing (Comp) | Belleville, MI | 01/31/06 | 01/31/05
58761 | Carm Newsome Hosiery (Comp) | Fort Payne, AL | 01/31/06 | 01/24/06
58762 | Agilent Technologies, Inc. (Wkrs) | Colorado Springs, CO | 01/31/06 | 01/31/06
58763 | Spartech Polycom (Wkrs) | Washington, PA | 01/31/06 | 01/31/06
58764 | Enduroglas, LLC (Wkrs) | Manistee, MI | 01/31/06 | 01/18/06
58765 | J.G. Garment (UNITE) | Bailey, NC | 02/01/06 | 01/31/06
58766 | Filtrona (State) | Phoenix, AZ | 02/01/06 | 01/31/06
58767 | Houston Hosiery Mills (Comp) | Valdese, NC | 02/01/06 | 01/25/06
58768 | O'Mara Incorporated (Comp) | Rutherford College, NC | 02/01/06 | 01/26/06
58769 | American Medical Devices (State) | Dartmouth, MA | 02/01/06 | 02/01/06
58770 | Thomasville (Wkrs) | Conover, NC | 02/01/06 | 02/01/06
58771 | Richmond Yarns, Inc. (Comp) | Ellerbe, NC | 02/01/06 | 01/31/06
58772 | PGP Corporation (Comp) | Detroit, MI | 02/01/06 | 02/01/06
58773 | Perfection Tool and Mold (Comp) | Dayton, OH | 02/01/06 | 02/01/06
58774 | Innovex, Inc. (State) | Litchfield, MN | 02/02/06 | 02/01/06
58775 | Herrin Maytag Laundry Products (State) | Herrin, IL | 02/02/06 | 02/01/06
58776 | Flynn Enterprises, LLC (Wkrs) | Elkton, KY | 02/02/06 | 01/27/06
58777 | JDS Uniphase, Inc. (Wkrs) | Allentown, PA | 02/02/06 | 01/23/06
58778 | Cotton Boutique, Inc. (Wkrs) | Allentown, PA | 02/02/06 | 01/31/06
58779 | Moldex Tool (Wkrs) | Meadville, PA | 02/02/06 | 02/02/06
58780 | Direct Source Industries (Wkrs) | San Francisco, CA | 02/03/06 | 02/02/06
58781 | Nashua Corporation (Comp) | Merrimack, NH | 02/03/06 | 01/30/06
58782 | Ametek Commercial (Comp) | Kent, OH | 02/03/06 | 01/31/06
58783 | Mohon International, Inc. (Union) | Paris, TN | 02/03/06 | 02/02/06
58784 | Moretz, Inc. (Comp) | Newton, NC | 02/03/06 | 02/02/06
58785 | Saint-Gobain Calmar (Comp) | City of Industry, CA | 02/03/06 | 02/03/06
58786 | PPS Group, LLC (Comp) | City of Industry, CA | 02/03/06 | 02/03/06

[FR Doc. E6-2495 Filed 2-21-06; 8:45 am]

BILLING CODE 4510-30-P